DEPARTMENT OF ENERGY

Federal Energy Regulatory Commission

[Project No. 10887-030]

Notice of Meeting and Site Visit: Carthage Specialty Paperboard, Inc

On December 13, 2019, at 10:00 a.m. (EST), Commission staff will participate in a site visit, followed by a joint agency meeting, at the Carthage Paper Maker Mill Hydroelectric Project. The site visit and meeting will be hosted by Carthage Specialty Paperboard, Inc., the project licensee. All participants interested in attending the site visit or joint agency meeting should meet at the project's powerhouse located at 30 Champion Street, Carthage, New York. All participants attending the site visit should be prepared to provide their own transportation. Anyone with questions about the site visit or joint agency meeting (or directions) should contact Martin Weller, Corporate Project Engineer with Carthage Specialty Paperboard, Inc., at (304) 725-2076 ext. 4159, mweller@oxindustries.com, or Jim Gibson with HDR, Inc., at (315) 414-2202, jim.gibson@hdrinc.com.

Dated: November 27, 2019.
Nathaniel J. Davis, Sr.,
Deputy Secretary.

[FR Doc. 2019-26201 Filed 12-3-19; 8:45 am]

BILLING CODE 6717-01-P